INTERNATIONAL TRADE COMMISSION

[Investigation No. 337-TA-711]

In the Matter of Certain Inkjet Ink Cartridges With Printheads and Components Thereof; Notice of a Commission Determination Not To Review an Initial Determination Terminating the Investigation Based on a Withdrawal of the Complaint

AGENCY: U.S. International Trade Commission.

ACTION: Notice.

SUMMARY: Notice is hereby given that the U.S. International Trade Commission has determined not to review an initial determination (“ID”) (Order No. 8) of the presiding administrative law judge (“ALJ”) terminating the above-captioned investigation based on a withdrawal of the complaint.

FOR FURTHER INFORMATION CONTACT: Michael Liberman, Esq., Office of the General Counsel, U.S. International Trade Commission, 500 E Street, SW., Washington, DC 20436, telephone (202) 205-3106. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 6, 2010, based on a complaint filed by Hewlett-Packard Company of Palo Alto, California (“HP”), alleging a violation of section 337 in the importation, sale for importation, and sale within the United States after importation of certain inkjet ink cartridges with printheads and components thereof by reason of infringement of certain claims of U.S. Patent Nos. 6,234,598; 6,309,053; 6,398,347; 6,412,917; 6,481,817; and 6,402,279. 75 FR 17435 (2010). The complainant named MicroJet Technology Co., Ltd., of Hsinchu City, Taiwan; Mipo Technology Limited, of Kwun Tong, Kowloon, Hong Kong; Mipo Science & Technology Co., Ltd., of Guangzhou, China; Mextec d/b/a Mipo America Ltd. of Miami, Florida; SinoTime Technologies, Inc. d/b/a All Colors, of Miami, and Florida; PTC Holding Limited, of Kwun Tong, Kowloon, Hong Kong, as the respondents.

On May 26, 2010, pursuant to 19 CFR 210.21(a)(1), complainant HP moved to terminate the investigation in its entirety based on a withdrawal of the complaint. No party to the investigation, including the Commission investigative attorney, opposed the motion.

On May 27, 2010, the ALJ issued an ID (Order No. 8) granting the motion. No party petitioned for review of the ID, and the Commission has determined not to review it.

The authority for the Commission's determination is contained in section 337 of the Tariff Act of 1930, as amended, 19 U.S.C. 1337, and in sections 210.21 and 210.42(h) of the Commission's Rules of Practice and Procedure, 19 CFR 210.21, 210.42(h).

By order of the Commission.
Issued: June 21, 2010.
Marilyn R. Abbott,
Secretary to the Commission.

[FR Doc. 2010-15661 Filed 6-25-10; 8:45 am]

BILLING CODE 7020-02-P